DEPARTMENT OF DEFENSE

Department of the Army; Corps of Engineers

Availability of the Draft Supplement to the Final Environmental Statement for the Reallocation of Water Supply Storage Project, John Redmond Lake, KS

AGENCY: Department of the Army, U.S. Army Corps of Engineers, DoD.

ACTION: Notice of Availability.

SUMMARY: The Tulsa District of the U.S. Army Corps of Engineers (USACE) has prepared a Draft Supplement to the Final Environmental Statement (DSFES) for the Reallocation of Water Supply Storage Project, John Redmond Lake, KS. The purpose of the project is to assess potential significant environmental impacts associated with water storage reallocation and a higher conservation pool elevation at John Redmond Lake.

DATES: The DSFEIS will be available for public review when this announcement is published. The review period of the document will be until September 11, 2002. To request a copy of the supplement, please call (918) 669-4396.

FOR FURTHER INFORMATION CONTACT: For further information regarding the DSFEIS, please contact Stephen L. Nolen, Chief, Environmental Analysis and Compliance Branch, U.S. Army Corps of Engineers, ATTN: CESWT-PE-E, 1645 South 101st East Avenue, Tulsa OK, 74128-4629.

SUPPLEMENTARY INFORMATION: John Redmond Dam was initially authorized as the Strawn Dam and Reservoir under the Flood Control Act of May 17, 1950, for flood control, water conservation, recreation, and water supply for communities along the Neosho River in southeastern Kansas. Congress subsequently changed the name in 1958 to John Redmond Dam and Reservoir.

To perform its authorized purposes, the lake contains three types of water storage pools. The upper pool provides 574,918 acre-feet of flood control storage and is reserved for flood control operations. The conservation pool provides 50,501 acre-feet of storage for water supply, water quality, and sediment. The inactive pool has filled with sediment. Water supply storage was projected to occur within the conservation pool when maintained at the surface elevation of 1039.0 feet National Geodetic Vertical Datum(NGVD). Studies have determined that sediment is accumulating in the conservation pool and is reducing the amount of water stored there. The amount of water storage reduction predicted by calendar year (CY) 2014 is approximately 25% or 8,725 acre-feet of water supply.

The USACE has been directed by Congress to conduct a study to reallocate water supply storage, an action that would fulfill the water supply agreement with the State of Kansas. This supplement addresses the proposed water supply storage reallocation project.

A Final Environmental Statement for operation and maintenance of John Redmond, Marion, and Council Grove Lakes, KS, was filed on December 17, 1976. This supplement addresses the environmental impacts of making an equitable redistribution of the storage remaining between the flood control pool and the conservation pool due to uneven sediment distribution.

Sediment in John Redmond Lake has been collecting mainly in the conservation pool, thereby reducing the conservation pool storage faster than was designed, while the flood control pool has not received as much sediment and has retained more storage than it was designed to retain. The reallocation does not guarantee the water storage volume contracted to the State of Kansas per an agreement in 1975, but makes an equitable redistribution of the remaining storage.

A total of four alternatives were identified and addressed in the DSFES. These include: no action, raise the conservation pool elevation by two feet, raise the conservation pool by two feet incrementally, and dredge the sediment from the conservation pool. The preferred alternative is to reallocate water storage in the conservation pool by two feet in a single pool raise. This would achieve the water storage obligation.

Environmental consequences of the proposed action identified in the DSFES include: (1) The loss of approximately 270 acres of wetland habitat, 40 acres of grassland, 51 acres of cropland, and 195 acres of woodland, and (2) impacts to 31 potentially significant prehistoric and historic archeology sites.

Mitigation for impacts to biological resources is proposed and is based upon recommendations of the U.S. Fish and Wildlife Service. A Memorandum of Agreement between the USACE, the Advisory Council on Historic Preservation, and the Kansas and Nebraska State Historic Preservation Offices is being drafted to determine appropriate actions and mitigation measures for cultural resources that may be discovered and/or affected during the course of the project. Appropriate mitigation measures may include preservation in place for future study, recovery or partial recovery of site data through excavation, a public interpretive display, or a combination of these measures.

The DSFES has been coordinated and approved by offices and directorates affected by or interested in the subject matter, including the Office of Counsel and Executive Offices.

Stephen R. Zeltner,
Lieutenant Colonel, U.S. Army Acting District Engineer.

[FR Doc. 02-16378 Filed 6-27-02; 8:45 am]

BILLING CODE 3710-39-P